DEPARTMENT OF ENERGY

Federal Energy Regulatory Commission

[Project No. 14602-000]

Montana Department of Natural Resources and Conservation; Notice of Preliminary Permit Application Accepted for Filing and Soliciting Comments, Motions To Intervene, and Competing Applications

On March 13, 2014, the Montana Department of Natural Resources and Conservation, filed an application for a preliminary permit, pursuant to section 4(f) of the Federal Power Act (FPA), proposing to study the feasibility of the Tongue River Power Project (Tongue River Project or project) to be located on the Tongue River near Decker in Big Horn County, Montana. The sole purpose of a preliminary permit, if issued, is to grant the permit holder priority to file a license application during the permit term. A preliminary permit does not authorize the permit holder to perform any land-disturbing activities or otherwise enter upon lands or waters owned by others without the owners' express permission.

The proposed project would consist of the following: (1) An existing 93-feet-high, 1,824-feet-long earth-fill dam with a spillway impounding a reservoir having a total storage capacity of 79,071 acres at a normal operating elevation of 3,428.4 feet mean sea level; (2) a steel-lined, 8-feet-diameter primary outlet conduit; (3) an 8-feet diameter, 700-feet-long penstock; (4) a 30-feet by 45-feet powerhouse containing twin vertical Francis turbines/generator units rated for a total of 2.16 megawatts; (5) outflow channels from the powerhouse returning water to the Tongue River; (6) a substation consisting of a concrete slab and a transformer; (7) a 1-mile-long, 25-kilovolt transmission line; (8) a switchyard facility located at the interconnection point with the grid; (9) a project access road; and (10) appurtenant facilities. The estimated annual generation of the Tongue River project would be 7.34 gigawatt-hours.

Applicant Contact: Kevin Smith, Montana Department of Natural Resources and Conservation, State Water Projects Bureau, 1424 9th Ave, P.O. Box 201601, Helena, MT 59620-1601, phone 406-444-2932, email ksmith@mt.gov.

FERC Contact: Ryan Hansen, phone: (202) 502-8074, or email ryan.hansen@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14602-000.

More information about this project, including a copy of the application, can be viewed or printed on the “eLibrary” link of Commission's Web site at http://www.ferc.gov/docs-filing/elibrary.asp. Enter the docket number (P-14602) in the docket number field to access the document. For assistance, contact FERC Online Support.

Dated: May 15, 2014.
Kimberly D. Bose,
Secretary.

[FR Doc. 2014-11873 Filed 5-21-14; 8:45 am]

BILLING CODE 6717-01-P